DEPARTMENT OF COMMERCE

National Oceanic and Atmospheric Administration

[RTID 0648-XE286]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Summer Flounder, Scup, and Black Sea Bass Advisory Panel will hold a public meeting, jointly with the Atlantic States Marine Fisheries Commission's Summer Flounder, Scup and Black Sea Bass Advisory Panel.

DATES: The meeting will be held on Thursday, October 3, 2024, from 3 p.m. until 4:30 p.m. For agenda details, see SUPPLEMENTARY INFORMATION.

ADDRESSES: The meeting will be held via webinar. Connection information will be posted prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panel to review and provide comments on the draft Summer Flounder Commercial Mesh Size Exemptions Framework/Addendum. The review will cover the alternatives under consideration and a preliminary overview of public comments collected during the previous public comment period. The document includes proposed revisions to two exemptions related to the summer flounder commercial minimum mesh size requirements: (1) the Small Mesh Exemption Program (SMEP), and (2) the flynet exemption. The Advisory Panel will provide input and recommendations to the Council and the Atlantic States Marine Fisheries Commission's Summer Flounder, Scup, and Black Sea Bass Board (Board) on the draft alternatives prior to the Council and Board taking final action at the Commission's Annual Meeting in October.

Additional information, including background documents, can be found on the Council's website at: https://www.mafmc.org/.

Special Accommodations

The meeting is physically accessible to people with disabilities. Requests for sign language interpretation or other auxiliary aid should be directed to Shelley Spedden, (302) 526-5251, at least 5 days prior to the meeting date.

Authority: 16 U.S.C. 1801 et seq.

Dated: September 12, 2024.
Rey Israel Marquez,
Acting Deputy Director, Office of Sustainable Fisheries, National Marine Fisheries Service.

[FR Doc. 2024-21128 Filed 9-17-24; 8:45 am]

BILLING CODE 3510-22-P